NUCLEAR REGULATORY COMMISSION

[NRC-2011-0147]

Thomas Saporito on Behalf of Saprodani Associates

AGENCY: Nuclear Regulatory Commission.

ACTION: Director's decision under 10 CFR 2.206; issuance.

SUMMARY: The U.S. Nuclear Regulatory Commission (NRC) has issued a director's decision with regard to a petition dated March 12, 2011, filed by Thomas Saporito (the petitioner), requesting that the NRC take action with regard to all operating reactor licensees. The petitioner's requests and the director's decision are included in the SUPPLEMENTARY INFORMATION section of this document.

DATES: June 24, 2015.

ADDRESSES: Please refer to Docket ID NRC-2011-0147 when contacting the NRC about the availability of information regarding this document. You may obtain publicly-available information related to this document using any of the following methods:

• Federal Rulemaking Web site: Go to http://www.regulations.gov and search for Docket ID NRC-2011-0147. Address questions about NRC dockets to Carol Gallagher; telephone: 301-415-3463; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

SUPPLEMENTARY INFORMATION:

Notice is hereby given that the Director, Office of Nuclear Reactor Regulation, has issued a director's decision (ADAMS Accession No. ML15114A411) on a petition filed by the petitioner on March 12, 2011 (ADAMS Accession No. ML110740026). The petition was supplemented by documents dated April 14, April 16, and May 25, 2011 (ADAMS Accession Nos. ML11110A026, ML11110A027, ML11110A028, ML11119A024, and ML111450897, respectively.)

The petitioner requested that the NRC:

1. Order the immediate shutdown of all nuclear power reactors located on or near an earthquake fault line in the United States.

2. Order the immediate shutdown of all power reactors employing GE Mark I containment design in the United States, characterizing such design as flawed from the nuclear safety standpoint.

3. Advise other countries employing the GE Mark I nuclear power reactors about the serious nuclear safety design flaws associated with that design, which is likely to result in a serious nuclear accident comparable to the Japanese nuclear disaster.

4. Immediately revoke all 20-year license extensions issued to NRC licensees, because the NRC “has improperly and illegally granted 20-year license extensions to the 40-year license that was initially granted by the agency for the 104 nuclear reactors throughout the United States.”

As the basis for these requests, the petitioner cited the events in Japan at the Fukushima Dai-ichi Nuclear Power Plant.

On April 14, 2011, and May 25, 2011, the petitioner met with the NRC's Petition Review Board. The meetings provided the petitioner an opportunity to provide additional information and to clarify issues cited in the petition. The transcripts for those meetings are available in ADAMS under Accession Nos. ML11109A014 and ML11146A010, respectively.

The NRC sent a copy of the proposed director's decision to the petitioner and the licensees for comment on April 8, 2015 (ADAMS Package Accession No. ML13018A145). The petitioner and the licensees were asked to provide comments within 2 weeks on any part of the proposed director's decision that was considered to be erroneous or any issues in the petition that were not addressed. Comments were received from two licensees and are addressed in an attachment to the final director's decision. The staff did not receive any comments from the petitioner.

The Director of the Office of Nuclear Reactor Regulation has determined that the following requests are denied: (1) To require that the NRC Order the immediate shutdown of all nuclear power reactors located on or near an earthquake fault line in the United States, and (2) to require that the NRC Order the immediate shutdown of all power reactors employing GE Mark I containment design in the United States. The NRC rejected Request 3 on the basis that the NRC was already implementing the actions requested. The NRC rejected Request 4 on the basis that the petitioner's claim was general and insufficient to warrant further inquiry, and that the NRC staff had already reviewed, evaluated, and resolved the issue.

The reasons for this decision are explained in the director's decision (DD-15-06) under Section 2.206 of Title 10 of the Code of Federal Regulations (10 CFR) of the Commission's regulations.

The NRC will file a copy of the director's decision with the Secretary of the Commission for the Commission's review in accordance with 10 CFR 2.206. As provided by this regulation, the director's decision will constitute the final action of the Commission 25 days after the date of the decision, unless the Commission, on its own motion, institutes a review of the director's decision in that time.

Dated at Rockville, Maryland, this 17th day of June, 2015.
For the Nuclear Regulatory Commission.
William M. Dean,
Director, Office of Nuclear Reactor Regulation.

[FR Doc. 2015-15518 Filed 6-23-15; 8:45 am]

BILLING CODE 7590-01-P